DEPARTMENT OF THE INTERIOR

Bureau of Land Management

[BLM_NV_FRN; MO# 4500178196]

Notice of Availability of the Proposed Resource Management Plan Amendments and Final Environmental Impact Statement for the Greenlink West Project in Clark, Esmeralda, Lyon, Mineral, Nye, Storey, and Washoe Counties, Nevada

AGENCY: Bureau of Land Management, Interior.

ACTION: Notice of availability.

SUMMARY: In compliance with the National Environmental Policy Act of 1969, as amended (NEPA), and the Federal Land Policy and Management Act of 1976, as amended (FLPMA), the Bureau of Land Management (BLM) has prepared Proposed Resource Management Plan Amendments (RMPA) and a Final Environmental Impact Statement (EIS) for the Greenlink West Project in Clark, Esmeralda, Lyon, Mineral, Nye, Storey, and Washoe Counties, Nevada and by this notice is announcing the start of a 30-day protest period of the Proposed RMPAs.

DATES: This notice announces the beginning of a 30-day protest period to the BLM on the Proposed RMPA. Protests must be postmarked or electronically submitted on the BLM project website within 30 days of the date that the Environmental Protection Agency (EPA) publishes its Notice of Availability (NOA) in the Federal Register. The EPA usually publishes its NOAs on Fridays.

ADDRESSES: The Final EIS/RMPA is available on the BLM project website at :https://eplanning.blm.gov/eplanning-ui/project/2017391/510.

Instructions for filing a protest with the BLM for the Greenlink West Project can be found at: https://www.blm.gov/programs/planning-and-nepa/public-participation/filing-a-plan-protest and at 43 CFR 1610.5-2.

FOR FURTHER INFORMATION CONTACT: Brian Buttazoni, Project Manager, telephone (775) 861-6491; address 1340 Financial Boulevard, Reno, NV 89502; email blm_nv_greenlinkwest@blm.gov. Contact us at this email address to have your name added to our mailing list. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: On September 22, 2020, Nevada Power Company and Sierra Pacific Power Company dba NV Energy (NV Energy) filed an Application for Transportation, Utility Systems, Telecommunications, and Facilities on Federal Lands and Property (Standard Form 299) and a preliminary Plan of Development (POD) with the BLM Nevada State Office for a FLPMA right-of-way (ROW) and short-term right-of-way for the Greenlink West Project (NVN-99863 and NVN-99863-01).

The Draft EIS/RMPA, published on May 23, 2023, initiated a 90-day comment period. In response to the amendments to NEPA under the Fiscal Responsibility Act of 2023 (FRA), sec. 321(e)(1)(B), Public Law 118-5, 42 U.S.C. 4336a(e), the BLM revised the organization of the final EIS to comply with the FRA's 300-page limit for a proposed agency action of “extraordinary complexity.” The Final EIS/Proposed RMPA analyzes the environmental impacts of the BLM's authorization of a 200-foot-wide ROW for the construction, operations, and decommissioning of the 525-kilovolt (kV) line, 160-foot-wide ROW for the 345-kV lines, and a 600-foot short-term ROW for construction and staging to NV Energy for a 474-mile system of new 525-kV, 345-kV, and 120-kV overhead electric transmission lines. Other components of the project include substations, microwave radio facilities, amplifier sites, access roads, and construction and material yards.

The proposed transmission facilities would include approximately 13,767 acres of land of which 10,158 acres are located on public lands administered by the BLM in the Carson City, Battle Mountain, and Southern Nevada District Offices. The remaining lands in the project area are managed by the Bureau of Indian Affairs (575 acres), Clark County (51 acres), Department of Defense (135 acres), Department of Energy (24 acres), National Park Service (20 acres), Nevada Division of State Lands (112 acres), U.S. Fish and Wildlife Service (10 acres), and private landowners (2,631 acres). The 525-kV facilities would begin 10 miles north of Yerington in Lyon County, traverse 360 miles through portions of Lyon, Mineral, Esmeralda, Nye, and Clark counties, and terminate at the Harry Allen Substation 10 miles north of North Las Vegas, Clark County, Nevada. Three 345-kV facilities would begin 10 miles north of Yerington in Lyon County and traverse through portions of Lyon, Storey, and Washoe counties. Two of the 345-kV lines would terminate 12 miles northwest of Silver Springs in Lyon County, and the third would terminate 7 miles southeast of Reno in Washoe County. The four expanded substations (Comstock Meadows, Mira Loma, Fort Churchill, and Harry Allen) and the two new substations (Esmeralda and Amargosa) would include fiber optic cable and microwave antennae towers for control and operation of the transmission system.

Any portions of the Greenlink West Project selected that would cross non-BLM administered lands would require authorizations or permits from the National Park Service, Bureau of Indian Affairs, Clark County, Department of Defense, Department of Energy, National Park Service, Nevada Division of State Lands, and private landowners. The Final EIS/Proposed RMPA addresses the direct, indirect, and cumulative environmental impacts of the BLM preferred alternative. The Final EIS/Proposed RMPA evaluated the alternatives in consultation with other Federal and State agencies, Tribes, private land holders, and cooperating agencies, and includes a BLM Preferred Alternative. Authorization of this project would require amendments to the applicable RMPs in effect for the Carson City District Office, Tonopah Field Office, and Southern Nevada District Office to modify the location of the existing Section 368 corridors (West Wide Energy Corridors) and to reclassify Visual Resource Management classes for portions of the project area.

The BLM has analyzed a combination of environmental measures and possible mitigation to eliminate or minimize impacts associated with the proposed action. These include the potential for identifying opportunities to apply on-site mitigation strategies appropriate to the sites of the action, and management actions to achieve resource objectives. Additionally, the BLM is using the NEPA process and the Final EIS/Proposed RMPA to comply with the requirements of Section 106 of the National Historic Preservation Act, 54 U.S.C. 306108, consistent with the Advisory Council on Historic Preservation's regulations implementing Section 106 (36 CFR 800.8(c)). The BLM continues to consult with Indian Tribes on a government-to-government basis in accordance with Executive Order 13175 and other policies. Tribal concerns, including impacts to cultural resources and sacred sites, were given due consideration.

Protest of the Proposed RMPA

BLM planning regulations state that any person who participated in the preparation of the RMP and has an interest that will or might be adversely affected by approval of the Proposed RMPA may protest its approval to the BLM. Protest of the Proposed RMPA constitutes the final opportunity for administrative review of the land use planning decisions prior to the BLM adopting the Approved RMPA. Instructions for filing a protest with the BLM regarding the RMPA may be found online (https://www.blm.gov/programs/planning-and-nepa/public-participation/filing-a-plan-protest and at 43 CFR 1610.5-2). All protests must be in writing and mailed to the appropriate address or submitted electronically through the BLM project website (https://eplanning.blm.gov/eplanning-ui/project/2017391/510). Protests submitted electronically by any means other than the BLM project website or by fax will be invalid unless a hard copy of the protest is also submitted. The BLM will render a written decision on each protest. The decision of the BLM on the protest shall be the final decision of the Department of the Interior. Responses to valid protest issues will be compiled and documented in a Protest Resolution Report made available following the protest resolution online at: https://www.blm.gov/programs/planning-and-nepa/public-participation/protest-resolution-reports. Upon resolution of protests, the BLM will issue a Record of Decision and Approved RMPA.

Jon K. Raby,
State Director.

[FR Doc. 2024-12960 Filed 6-13-24; 8:45 am]

BILLING CODE 4331-21-P